INTERNATIONAL TRADE COMMISSION

[Investigation No. 731-TA-747 (Final)]

Fresh Tomatoes From Mexico; Continuation of the Final Phase of an Antidumping Duty Investigation and Revised Schedule

AGENCY: United States International Trade Commission.

ACTION: Notice.

SUMMARY: The Commission hereby gives notice of the continuation of the final phase of antidumping investigation No. 731-TA-747 (Final) pursuant to the Tariff Act of 1930 (“the Act”) to determine whether an industry in the United States is materially injured or threatened with material injury, or the establishment of an industry in the United States is materially retarded, by reason of imports of fresh tomatoes from Mexico preliminarily determined by the Department of Commerce (“Commerce”) to be sold at less than fair value (“LTFV”). This notice also provides the revised schedule for the final phase.

DATES: October 17, 2019.

FOR FURTHER INFORMATION CONTACT: Christopher W. Robinson (202) 205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION:

Background

On February 1, 2018, Commerce initiated and the Commission instituted their fourth five-year reviews of the suspended investigation (83 FR 4641, 83 FR 4676). On May 7, 2019, Commerce terminated the suspension agreement and resumed its antidumping investigation (84 FR 20858, May 13, 2019). Effective May 7, 2019, the Commission terminated its fourth review (84 FR 21360, May 14, 2019) and resumed its antidumping investigation (84 FR 27805, June 14, 2019). On August 7, 2019, the Commission published a schedule for the conduct of the final phase of the subject investigation (84 FR 38643). On September 24, 2019, Commerce published notice in the Federal Register suspending its antidumping investigation on the basis of a suspension agreement between Commerce and signatory producers/exporters accounting for substantially all imports of fresh tomatoes from Mexico (84 FR 49987). Effective September 24, 2019, the Commission suspended its antidumping investigation (84 FR 54639, October 10, 2019).

On October 11 and 15, 2019, Commerce received timely requests, pursuant to section 734(g) of the Tariff Act of 1930 (19 U.S.C. 1673c(g)), to continue its antidumping investigation on fresh tomatoes from Mexico and therefore resumed its final investigation. The Commission, therefore, is continuing its antidumping investigation and gives notice of its revised schedule.

The Commission's new schedule for its final investigation is as follows: The hearing will be held at the U.S. International Trade Commission Building at 9:30 a.m. on October 24, 2019; the deadline for filing posthearing briefs is October 31, 2019; the Commission will make its final release of information on November 18, 2019; and final party comments are due on November 20, 2019. (Requests to appear at the hearing and the deadline for prehearing briefs already occurred under the prior schedule for this final investigation.) For further information concerning this proceeding, see the Commission's notices cited above and the Commission's Rules of Practice and Procedure, part 201, subparts A through E (19 CFR part 201), and part 207, subparts A, C, and D (19 CFR part 207).

Authority: This investigation is being conducted under authority of title VII of the Tariff Act of 1930; this notice is published pursuant to section 207.21 of the Commission's rules.

By order of the Commission.
Issued: October 17, 2019.
Lisa Barton,
Secretary to the Commission.

[FR Doc. 2019-23073 Filed 10-22-19; 8:45 am]

BILLING CODE 7020-02-P